FEDERAL COMMUNICATIONS COMMISSION

[OMB 3060-0207]

Information Collection Being Reviewed by the Federal Communications Commission

AGENCY: Federal Communications Commission.

ACTION: Notice and request for comments.

SUMMARY: As part of its continuing effort to reduce paperwork burdens, and as required by the Paperwork Reduction Act of 1995 (PRA), the Federal Communications Commission (FCC or Commission) invites the general public and other Federal agencies to take this opportunity to comment on the following information collections. Comments are requested concerning: Whether the proposed collection of information is necessary for the proper performance of the functions of the Commission, including whether the information shall have practical utility; the accuracy of the Commission's burden estimate; ways to enhance the quality, utility, and clarity of the information collected; ways to minimize the burden of the collection of information on the respondents, including the use of automated collection techniques or other forms of information technology; and ways to further reduce the information collection burden on small business concerns with fewer than 25 employees.

The FCC may not conduct or sponsor a collection of information unless it displays a currently valid Office of Management and Budget (OMB) control number. No person shall be subject to any penalty for failing to comply with a collection of information subject to the PRA that does not display a valid OMB control number.

DATES: Written PRA comments should be submitted on or before December 3, 2018. If you anticipate that you will be submitting comments, but find it difficult to do so within the period of time allowed by this notice, you should advise the contact listed below as soon as possible.

ADDRESSES: Direct all PRA comments to Nicole Ongele, FCC, via email PRA@fcc.gov and to Nicole.ongele@fcc.gov.

FOR FURTHER INFORMATION CONTACT: For additional information about the information collection, contact Nicole Ongele, (202) 418-2991.

SUPPLEMENTARY INFORMATION:

OMB Control Number: 3060-0207.

Title: Part 11—Emergency Alert System (EAS), Orders, FCC 18-94.

Form No.: N/A.

Type of Review: Revision of currently approved collection.

Respondents: Business or other for-profit; Not-for-profit institutions; State, Local, or Tribal Government.

Number of Respondents and Responses: 63,084 respondents; 3,588,830 responses.

Estimated Time per Response: 0.017 hours—100 hours.

Frequency of Response: On occasion reporting requirement, annual reporting requirement, one-time reporting requirement, recordkeeping requirement and third-party disclosure requirements.

Obligation to Respond: Mandatory. Statutory authority for this information collection is contained in 47 U.S.C. 154(i) and 606 of the Communications Act of 1934, as amended.

Total Annual Burden: 140,751 hours.

Total Annual Cost: No Cost.

Privacy Act Impact Assessment: No Impact(s).

Nature and Extent of Confidentiality: For false alert information filed with the Commission via email to the FCC Ops Center at FCCOPS@fcc.gov, the Commission will share individual and aggregated data on a confidential basis with other federal agencies and state governmental emergency management agencies that have confidentiality protection at least equal to that provided by the Freedom of Information Act. State EAS Plan data and any aggregation of such data will have the same level of confidentiality as data filed in the ETRS, i.e., the Commission will share individual and aggregated data on a confidential basis with other federal agencies and state governmental emergency management agencies that have confidentiality protection at least equal to that provided by the Freedom of Information Act.

Needs and Uses: Part 11 contains rules and regulations addressing the nation's Emergency Alert System (EAS). The EAS provides the President with the capability to provide immediate communications and information to the general public during periods of national emergency over broadcast television and radio, cable, direct broadcast radio and other EAS Participants, as defined in Section 11.11(a) of the Commission's rules. The EAS also provides state and local governments and the National Weather Service with the capability to provide immediate communications and information to the public concerning emergency situations posing a threat to life and property. The manner in which the EAS delivers alerts to the public is set forth in State EAS Plans, which are drafted by State Emergency Communications Committees (SECCs), the entities required to submit State EAS Plans to the Commission's Public Safety and Homeland Security Bureau (PSHSB) under Section 11.21 of the Commission's rules.

In the Order, PS Dockets 15-94, 15-91, FCC 18-94, the Commission amended Section 11.45 of its rules to require that no later than twenty-four (24) hours of an EAS Participant's discovery that it has transmitted or otherwise sent a false alert to the public, the EAS Participant send an email to the FCC Ops Center (at FCCOPS@fcc.gov), informing the Commission of the event and of any details that the EAS Participant may have concerning the event. In addition, the Commission amended Section 11.61 of the rules to include “Live Code Tests” as a separate category of alerting exercise that EAS Participants may undertake voluntarily, provided such live code tests are conducted in accordance with specific parameters, including: (1) Notifying the public before the test that live event codes will be used, but that no emergency is, in fact, occurring; (2) to the extent technically feasible, stating in the test message that the event is only a test; and (3) consistent with the Commission's rules, providing in widely accessible formats the required notification to the public that the test is not, in fact, a warning about an actual emergency.

The Commission seeks Office of Management and Budget (OMB) approval of these rule amendments as a modification of a previously approved information collection. The false alert reporting obligation is essential to provide the Commission, FEMA and other affected stakeholders with the information necessary to identify and mitigate problems with the EAS, and benefits ongoing EAS reliability. The false alert reporting rules also will provide a significant public safety benefit by allowing the Commission to detect whether there are trends and patterns in false alerts that may indicate weaknesses that require further Commission study and action to strengthen the alerting system. The “Live Code Testing” provisions remove regulatory obstacles and reduce time and cost burdens on EAS Participants by eliminating the need to obtain a waiver to conduct such tests. These testing rules will promote greater proficiency in the use of EAS, both by EAS alert initiators and EAS Participants, which will help address potential gaps in alert originator training.

In the Order, PS Docket No. 15-94, FCC 18-39, the Commission adopted a rule obligating SECCs to file State EAS Plans electronically through the new Alert Reporting System (ARS), rather than in paper-based filings, the method currently approved by OMB for this collection. For the required electronic filing, the Commission has developed a proposed reporting template, attached as Appendix D to the Order, and seeks OMB approval of the proposed template as a modification of a previously approved information collection. The proposed template will decrease the paperwork burden associated with this collection over time, and there is no change to any other reporting obligation in this collection. The information sought in this collection is necessary and vital to the effective electronic filing of State EAS Plans in the ARS, which will replace paper-based filing requirements, minimize the burdens on SECCs, and allow the Commission, the Federal Emergency Management Agency (FEMA), and other authorized entities to better access and use up-to-date information about the EAS, thus increasing its value as a tool to protect life and property for all Americans.

The following information collections contained in Part 11 may be impacted by the rule amendments described herein. With respect to the establishment of a false alert reporting obligation, the Commission found such obligation to be minimally burdensome, affecting approximately 290 EAS Participants annually, with each successive year likely involving a different group of EAS Participants, and requiring no more than 15 minutes to email the required information to the FCC Ops Center. With respect to the establishment of “Live Code Test” rules, which codified requirements that were previously imposed on waivers granted by the Commission, the Commission found that such action reduced time and cost burdens on EAS Participants by eliminating the need to obtain a waiver.

With respect to the establishment of a mandatory electronic test reporting system that EAS participants must utilize to file identifying and test result data, the Commission noted that this electronic submission system would impose a lesser burden on EAS test participants because they could input electronically (via a web-based interface) the same information into a confidential database that the Commission would use to monitor and assess the test. This information would include identifying information such as station call letters, license identification number, geographic coordinates, EAS designation (Local Primary, National Primary, etc.), EAS monitoring assignment, as well as a 24/7 emergency contact for the EAS Participant. The only difference, other than the electronic nature of the filing, would be the timing of the collections. Test participants would submit the identifying data. These rules may impact currently existing paperwork collection requirements as discussed below.

Section 11.15 requires a copy of the EAS operating handbook to be located at normal duty positions or EAS equipment locations when an operator is required to be on duty. The handbook must be immediately available to staff responsible for authenticating messages and initiating actions. Copies of the handbook are posted on the Commission's website and can be obtained at https://www.fcc.gov/general/emergency-alert-system-eas.

Section 11.21 requires that state and local EAS plans be reviewed and approved by the Chief, Public Safety and Homeland Security, prior to implementation to ensure that they are consistent with national plans, FCC regulations, and EAS operation.

Section 11.34 requires manufacturers to include instructions and information on how to install, operate and program an EAS Encoder, EAS Decoder, or combined unit and a list of all U.S., State, Territory and Offshore (Marine Area) ANSI number codes with each unit sold or marketed in the U.S. This requirement would be done in the normal course of doing business.

Section 11.35 requires that all EAS Participants are responsible for ensuring that EAS Encoders/Decoders and Attention Signal generating and receiving equipment used as part of the EAS are installed so that the monitoring and transmitting functions are available during the times the stations/systems are in operation. EAS Participants must determine the cause of any failure to receive the required tests or activations. When the EAS is not operating properly, section 11.35 requires appropriate entries be made in the station/system logs indicating why any tests were not received for all broadcast streams and cable systems. All other EAS Participants must also keep record indicating reasons why any tests were not received and these records must be retained for two years, maintained at the EAS Participant's headquarters, and made available for public inspection upon reasonable request.

Section 11.35 also requires that entries be made in the station/system logs, and records of other EAS Participants, when the EAS Encoder/Decoder becomes defective showing the date and time the equipment was removed and restored to service. If replacement of defective equipment is not completed within 60 days, an informal request shall be submitted to the District Director of the FCC field office. For DBS and SDARS providers, this informal request shall be submitted to the District Director of the FCC field office serving the area where their headquarters is located. This request must explain what steps have been taken to repair or replace the defective equipment, the alternative procedures being used while the defective equipment is out of service and when the defective equipment will be repaired or replaced.

Section 11.41 allows all EAS Participants to submit a written request to the FCC asking to be a Non-Participating National source. In addition, a Non-Participating National source that wants to become a Participating National source must submit a written request to the FCC.

Section 11.42 allows a communications common carrier to participate in the national level EAS, without charge. A communications common carrier rendering free service is required to file with the FCC, on or before July 31st and January 31st of each year, reports covering the six months ending on June 30th and December 31st respectively. These reports shall state what free service was rendered under this rule and the charges in dollars which would have accrued to the carrier for this service if charges had been collected at the published tariff rates if such carriers are required to file tariffs.

Section 11.43 allows entities to voluntarily participate in the national level EAS after submission of a written request to the Chief, Public Safety and Homeland Security Bureau.

Section 11.51 requires that EAS equipment be operational, ready to monitor, transmit and receive EAS electronic signals. Cable and wireless cable systems, both analog and digital, can elect not to interrupt EAS messages from broadcast stations based upon a written agreement between all concerned. Furthermore, cable and wireless cable systems, both analog and digital, can elect not to interrupt the programming of a broadcast station carrying news or weather-related emergency information with state and local EAS messages based upon a written agreement between all concerned. These written agreements are contained in state and local franchise agreements.

Section 11.51 also requires all actions to be logged when manual interruption of programming and transmission of EAS messages is used. Estimates for testing are included in the estimate for section 11.61.

Section 11.52 requires all EAS Participants to monitor two EAS sources. If the required EAS sources cannot be received, alternate arrangements or a waiver may be obtained by written request to the FCC's EAS office. In an emergency, a waiver may be issued over the telephone with a follow-up letter to confirm temporary or permanent reassignment. In addition, EAS Participants are required to interrupt normal programming either automatically or manually when they receive an EAS message in which the header code contains the event codes for emergency action notification, emergency action termination and required monthly test for their state or state/county location.

Section 11.54 requires EAS Participants to enter into their logs/records the time of receipt of an emergency alert notice and an emergency action termination messages during a national level emergency.

Section 11.55 requires EAS participants to monitor their emergency alert system upon receipt of a state or local area EAS message. Stations/systems must also enter into their logs/records the time of receipt of an emergency alert message. If an SDARS licensee or DBS provider is unable to receive and transmit state and local EAS messages, it must inform its subscribers, on its website, and in writing on an annual basis of which channels are and are not capable of supplying state and local EAS messages.

Section 11.61 requires EAS Participants to conduct periodic EAS tests. Tests of the EAS header codes, attention signal, test script and EOM code are required to be performed monthly. Tests of the EAS header codes and end of message codes are made at least once a week. National primary sources shall participate in tests as appropriate. DBS providers, Class D non-commercial educational FM stations and low power TV stations are not required to transmit this test but must log receipt of the test. The FCC may request a report of the tests of the national primary sources. In addition, entries must be made in stations/systems logs/records as previously stated.

This information is used by FCC staff as part of routine inspections of EAS Participants. Accurate recordkeeping of this data is vital in determining the location and nature of possible equipment failure on the part of the transmitting or receiving entity. Furthermore, since the national level EAS is solely for the President's use, its proper operation must be assured.

Federal Communications Commission.
Katura Jackson,
Federal Register Liaison Officer, Office of the Secretary.

[FR Doc. 2018-21476 Filed 10-2-18; 8:45 am]

BILLING CODE 6712-01-P